DEPARTMENT OF HEALTH AND HUMAN SERVICES

Administration for Children and Families

Proposed Information Collection Activity; Interstate Administrative Subpoena and Notice of Lien (Office of Management and Budget OMB #: 0970-0152)

AGENCY: Office of Child Support Services, Administration for Children and Families, U.S. Department of Health and Human Services.

ACTION: Request for public comments.

SUMMARY: The Administration for Children and Families (ACF) is requesting a 3-year extension with proposed revisions to the Interstate Administrative Subpoena and Notice of Lien forms (Office of Management and Budget #0970-0152, expiration 6/30/2024). The forms are updated to reflect the name change of the Federal child support program office from the Office of Child Support Enforcement to the Office of Child Support Services.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The Administrative Subpoena is used by State child support agencies to obtain income and other financial information regarding noncustodial parents for purposes of establishing, enforcing, and modifying child support orders. The Notice of Lien imposes liens in cases with overdue support and allows a State child support agency to file liens across State lines, when it is more efficient than involving the other State's IV-D agency.

Section 452(a)(11) of the Social Security Act requires the Secretary of the Department of Health and Human Services to promulgate forms for administrative subpoenas and imposition of liens used by State child support agencies in interstate cases. Section 454(9)(E) of the Social Security Act requires each State to cooperate with any other State in using the Federal forms for issuance of administrative subpoenas and imposition of liens in interstate child support cases.

Respondents: State, local, or Tribal agencies administering a child support program under title IV-D of the Social Security Act.

Annual Burden Estimates
Instrument | Annual number of respondents | Annual number of responses per respondent | Average burden hours per response | Annual burden hours
Administrative Subpoena | 54 | 462 | .5 | 12,474
Notice of Lien | 54 | 29,762 | .5 | 803,574

Estimated Total Annual Burden Hours: 816,048.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 652; 42 U.S.C. 654.

Mary B. Jones,
ACF/OPRE Certifying Officer.

[FR Doc. 2023-27313 Filed 12-12-23; 8:45 am]

BILLING CODE 4184-41-P